ENVIRONMENTAL PROTECTION AGENCY

[ER-FRL-6616-0]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-F61020-WI Rating EC2, Boundary Waters Canoe Area Wilderness Fuel Treatment, Implementation, Superior National Forest, Cook County, WI.

Summary: EPA expressed concerns over the use of fire retardants for control of prescribed burns and wildfire, air quality, and the threat to noxious weed invasion in the wake of burns and fire control activities. ERP No. D-AFS-F65028-MI Rating LO, Plantation Lakes Vegetation Management Project, Implementation, Ottawa National Forest, Kenton and Ontonagon Ranger Districts, Houghton County, MI.

Summary: EPA has not identified any potential environmental impacts requiring substantive changes to the proposed action.

ERP No. D-FAA-E51048-CA Rating EC2, Hartsfield Atlanta International Airport, Construction and Operation of the 9,000-Foot Fifth Runway and Associated Projects, Approval of Airport Layout Plan (ALP), City of Atlanta, Fulton and Clayton Counties, GA.

Summary: EPA expressed environmental concerns with the proposed fifth runway regarding noise, air quality and environmental justice and their mitigation. EPA also encouraged the continuance of the ongoing noise mitigation program.

ERP No. D-USN-E65055-FL Rating EC2, Renewal of Authorization to Use Pinecastle Range, Continue Use of the Range for a 20-Year Period, Special Use Permit Issuance, Ocala National Forest, Marion and Lake Counties, FL.

Summary: Environmental impacts to range and its environs from continued training need to be analyzed in the final document.

Final EISs

ERP No. F-FHW-K50013-00, US 93 Hoover Dam Bypass Project, Construction of a New Bridge and Highway, Funding, Right-of-Way Easement, US Coast Guard, NPDES and COE Section 404 Permits, Federal Lands—Lake Mead National Recreation Area and Hoover Dam Reservation, Clark County, NV and Mohave County, AZ.

Summary: EPA reviewed the FEIS and found that the document adequately addressed the issues raised in EPA's previous comment letter.

Dated: February 23, 2001.
Joseph C. Montgomery,
Director, NEPA Compliance Division, Office of Federal Activities.

[FR Doc. 01-5135 Filed 3-1-01; 8:45 am]

BILLING CODE 6560-50-M